DEPARTMENT OF LABOR

Employment and Training Administration

[TA-W-61,176]

Schoeller Arca Systems; Detroit, MI; Notice of Termination of Investigation

Pursuant to Section 221 of the Trade Act of 1974, as amended, an investigation was initiated on March 26, 2007 in response to a petition filed by a company official on behalf of workers Schoeller Arca Systems, Detroit, Michigan. The workers at the subject firm produce foldable containers.

The petitioner has requested that the petition be withdrawn. Consequently, the investigation has been terminated.

Signed in Washington, DC, this 23rd day of April 2007
Linda G. Poole,
Certifying Officer, Division of Trade Adjustment Assistance.

[FR Doc. E7-8467 Filed 5-2-07; 8:45 am]

BILLING CODE 4510-FN-P